DEFENSE BASE CLOSURE AND REALIGNMENT COMMISSION

Notice of the Defense Base Closure and Realignment Commission—Change in Date, Location and Agenda of a Previously Announced Open Meeting

AGENCY: Defense Base Closure and Realignment Commission.

ACTION: Notice; Defense Base Closure and Realignment Commission—Change in Date, Location and Agenda of a Previously Announced Open Meeting (St. Louis, MO).

SUMMARY: Notice is hereby given that a Notice is hereby given that the previously announced open meeting of a delegation of the Defense Base Closure and Realignment Commission scheduled for June 7, 2005 from 8:30 a.m. to 6 p.m. in St. Louis, Missouri, has been rescheduled for June 20, 2005 from 8:30 a.m. to 6 p.m. After extensive coordination with the various Federal, State and local officials concerned, the Commission determined that it was not possible to hold a meaningful public discussion on the date originally scheduled because Congressional delegations and community representatives had not been afforded adequate opportunity to analyze the data used by the Department of Defense (DoD) to formulate the base closure and realignment recommendations due to delays by DoD in releasing that data in an unclassified form. The location of the meeting is yet to be determined. The agenda will now include comment from Federal, state and local government representatives and the general public on base realignment and closure actions in Kentucky, Illinois, Indiana, Iowa, Michigan, Missouri and Wisconsin that have been recommended by DoD.

The purpose of this regional meeting is to allow communities experiencing a base closure or major realignment action (defined as loss of 300 civilian positions or 400 military and civilian positions) an opportunity to voice their concerns, counter-arguments, and opinions. This meeting will be open to the public, subject to the availability of space. The sub-group of the Commission will not render decisions regarding the DoD recommendations at this meeting, but will gather information for later deliberations by the Commission as a whole.

The delay of this notice resulted from unanticipated delays by DoD in the release of the data used by DoD to formulate the base closure and realignment recommendations in an unclassified form and the short time-frame established by statute for the operations of the Defense Base Closure and Realignment Commission. The Commission requests that the public consult the 2005 Defense Base Closure and Realignment Commission Web site, http://www.brac.gov, for updates.

DATES: June 20, 2005 from 8:30 a.m. to 6 p.m.

ADDRESSES: To Be Determined, St. Louis, Missouri.

FOR FURTHER INFORMATION CONTACT: Please see the 2005 Defense Base Closure and Realignment Commission Web site, http://www.brac.gov. The Commission invites the public to provide direct comment by sending an electronic message through the portal provided on the Commission's Web site or by mailing comments and supporting documents to the 2005 Defense Base Closure and Realignment Commission, 2521 South Clark Street, Suite 600, Arlington, Virginia 22202-3920. For questions regarding this announcement, contact Mr. Dan Cowhig, Deputy General Counsel and Designated Federal Officer, at the Commission's mailing address or by telephone at 703-699-2950 or 2708.

Dated: June 6, 2005.
Jeannette Owings-Ballard,
Administrative Support Officer.

[FR Doc. 05-11626 Filed 6-10-05; 8:45 am]

BILLING CODE 5001-06-P